DEPARTMENT OF COMMERCE

National Oceanic and Atmospheric Administration

50 CFR Part 648

[Docket No. 030912231-3266-02; I.D. 100504A]

Fisheries of the Northeastern United States; Scup Fishery; Adjustment to the 2004 Winter II Quota

AGENCY: National Marine Fisheries Service (NMFS), National Oceanic and Atmospheric Administration (NOAA), Commerce.

ACTION: Notification of scup Winter II quota adjustment and possession limit adjustment.

SUMMARY: NMFS adjusts the 2004 Winter II commercial scup quota and possession limit. This action complies with Framework Adjustment 3 (Framework 3) to the Summer Flounder, Scup, and Black Sea Bass Fishery Management Plan (FMP), which implemented procedures to allow the rollover of unused commercial scup quota from the Winter I period to the Winter II period.

DATES: This rule is effective November 1, 2004 through December 31, 2004.

FOR FURTHER INFORMATION CONTACT: Sarah McLaughlin, Fishery Policy Analyst, (978) 281-9279, fax (978) 281-9135, e-mail sarah.mclaughlin@noaa.gov.

SUPPLEMENTARY INFORMATION: NMFS published a final rule in the Federal Register on November 3, 2003 (68 FR 62250), implementing Framework 3. Framework 3 implemented a process, for years in which the full Winter I commercial scup quota is not harvested, to allow unused quota from the Winter I period to be added to the quota for the Winter II period, and to allow adjustment of the commercial possession limits for the Winter II period based on the amount of quota rolled over from the Winter I period. Table 5 of the final 2004 quota specifications for summer flounder, scup, and black sea bass (69 FR 2074, January 14, 2004) presented detailed information regarding Winter II possession limits, based on the amount of scup to be rolled over from Winter I to Winter II.

For 2004, the Winter II quota is 1,967,825 lb (892,600 kg), and the best available landings information indicates that 2,249,527 lb (1,020,379 kg) remain of the Winter I quota of 5,568,920 lb (2,526,046 kg). Consistent with the intent of Framework 3, the full amount of unused 2004 Winter I quota is transferred to Winter II, resulting in a revised 2004 Winter II quota of 4,217,352 lb (1,912,978 kg). In addition to the quota transfer, the 2004 Winter II possession limit is increased, consistent with the rollover specifications established in the 2004 final rule (69 FR 2074), to 3,500 lb (1,588 kg) per trip to provide an appropriate opportunity for fishing vessels to obtain the increased Winter II quota.

Classification

This action is required by 50 CFR part 648 and is exempt from review under Executive Order 12866.

Authority: 16 U.S.C. 1801 et seq.

Dated: October 5, 2004.
Alan D. Risenhoover,
Acting Director, Office of Sustainable Fisheries, National Marine Fisheries Service.

[FR Doc. 04-22839 Filed 10-6-04; 2:15 pm]

BILLING CODE 3510-22-S